DEPARTMENT OF COMMERCE

[I.D. 070703E]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Atlantic Highly Migratory Species Recreational Landings Reports.

Form Number(s): None.

OMB Approval Number: 0648-0328.

Type of Request: Regular submission.

Burden Hours: 1,369.

Number of Respondents: 10,069.

Average Hours Per Response: 5 minutes for a telephone or Internet report; 10 minutes for a state landing card; 1hour for a state weekly report; and 4 hours for a state annual report.

Needs and Uses: This information collection consists of a mandatory catch reporting program in the recreational fishery for Atlantic bluefin tuna, Atlantic swordfish, Atlantic blue marlin, Atlantic white marlin, and Atlantic sailfish. Anglers harvesting these species must report through an automated phone system or an Internet site, or through landing card programs administered by some states. Catch monitoring and collection of catch and effort statistics in these fisheries are required under the Atlantic Tunas Convention Act and the Magnuson-Stevens Fishery Conservation and Management Act. The information collected through this program is essential for the United States to meet its reporting obligations to the International Commission for the Conservation of Atlantic Tunas (ICCAT) and to assure the harvest of these species remains within ICCAT required quotas.

Affected Public: Individuals or households; business or other for-profit organizations; and State, Local, or Tribal Government.

Frequency: On occasion, weekly, annually.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, Room 10202, New Executive Office Building, Washington, DC 20503.

Dated: July 3, 2003,
Gwellnar Banks,
Management Analyst, Office of the Chief Information Officer.

[FR Doc. 03-17623 Filed 7-10-03; 8:45 am]

BILLING CODE 3510-22-S